DEPARTMENT OF VETERANS AFFAIRS

Enhanced-Use Lease (EUL) of Department of Veterans Affairs (VA) Real Property for the Restoration of the 1889 Soldiers Home Chapel and Rehabilitation of the 1901 Chaplain's Quarters at the Clement J. Zablocki Veterans Affairs Medical Center (VAMC) in Milwaukee, WI

AGENCY: Department of Veterans Affairs.

ACTION: Notice of Intent to enter into an Enhanced-Use Lease.

SUMMARY: The Secretary of VA intends to enter into an EUL of the 1889 Soldiers Home Chapel (Building #12), the 1901 Chaplain's Quarters (Building #16), and the surrounding approximately 2.5 acres at the Clement J. Zablocki VAMC in Milwaukee, Wisconsin.

The selected Lessee will finance, design, develop, construct, manage, maintain, and operate the Soldiers Home Chapel and Chaplain's Quarters. As consideration for the lease, the Lessee will be required to restore the Chapel and rehabilitate the Chaplain's Quarters.

Lessee will also provide referral counseling services for homeless Veterans, and set aside at least one room in the Chapel to provide counseling and outreach services for homeless Veterans. Lessee will provide priority to Veterans and their families for funerals, weddings, wedding renewals, multi-denominational and community events and presentations.

FOR FURTHER INFORMATION CONTACT: Edward Bradley, Office of Asset Enterprise Management (044C), Department of Veterans Affairs, 810 Vermont Avenue, NW., Washington, DC 20420, (202) 461-7778. (This is not a toll-free number.)

SUPPLEMENTARY INFORMATION: Title 38 U.S.C. 8161 et seq. states that the Secretary may enter into an Enhanced-Use Lease if he determines that implementation of a business plan proposed by the Under Secretary for Health for applying the consideration under such a lease for the provision of medical care and services would result in a demonstrable improvement of services to eligible Veterans in the geographic service-delivery area within which the property is located. This project meets this requirement.

Approved: August 27, 2010.
Eric K. Shinseki,
Secretary of Veterans Affairs.

[FR Doc. 2010-28632 Filed 11-12-10; 8:45 am]

BILLING CODE 8320-01-P